DEPARTMENT OF THE INTERIOR

National Park Service

[NPS-NER-NERI-15235; PPNENERIS0/PPMPSPD1Z.YM00000[REMOVED PRIVATE FIELD]]

Establishment of a New Fee Area at New River Gorge National River

AGENCY: National Park Service, Interior.

ACTION: Notice.

SUMMARY: This notice is to comply with section 804 of the Federal Lands Recreation Enhancement Act of 2004 (Pub. L. 108-447). The act requires agencies to give the public advance notice (6 months) of the establishment of a new recreation fee area. New River Gorge National River in West Virginia plans to collect the following expanded amenity recreation fees at the newly constructed Meadow Creek Campground beginning in late summer of 2014: $28 per night for an RV site with Electric and Water Hook-ups; $24 per night for an RV site with Electric Hook-ups but no site-specific water; $18 per night for a Tent Only site with Electric Hook-ups, but no site-specific water; $10 per night for a Tent Only site with No Hook-ups. Communal water spigots will be available to all campers, regardless of site type. Revenue will be used to cover the cost of collections at the campground and for deferred maintenance in the park.

DATES: Collection of fees will be effective 6 months after publication in the Federal Register.

FOR FURTHER INFORMATION CONTACT: Jamie Fields, Planner, New River Gorge National River, P.O. Box 246, Glen Jean, WV 25846-0246; telephone (304) 465-6527.

SUPPLEMENTARY INFORMATION: These fees were determined through a comparability study of similar sites in the area at Federal, state, and private recreation areas and will only be charged at Meadow Creek Campground. In accordance with NPS public involvement guidelines, the park engaged numerous individuals, organizations, and local, state, and Federal government representatives while planning for the implementation of this fee.

Dated: April 30, 2014.
Lena McDowall,
Associate Director, Business Services.

[FR Doc. 2014-10795 Filed 5-9-14; 8:45 am]

BILLING CODE 4310-WV-P